FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 13, 2013.

A. Federal Reserve Bank of St. Louis (Yvonne Sparks, Community Development Officer) P.O. Box 442, St. Louis, Missouri 63166-2034:

1. Christopher C. Reid, Owensboro, Kentucky, acting individually and in concert with a control group, to retain control of Independence Bancshares, Inc., Owensboro, Kentucky, and thereby indirectly acquire Independence Bank of Kentucky, Owensboro, Kentucky. The control group consists of Mr. Reid, Beacon Insurance Agency, Inc., Janet Reid, Jacob Reid, Lauren Reid Patton, Cathy Switzer, Greg Mullican, Todd Switzer, Kyle Aud, Bridget Reid, Jennie Parker, Eve Holder, Matt Carter, Darrell Higginbotham, Gary White, all of Owensboro, Kentucky; Jim Davis, Scott Audas, Bob Cummins, Kay Bryant, all of Henderson, Kentucky; Danny Evitts, Scott Johnston, both of Paducah, Kentucky; Kelly Jackson, Alvaton, Kentucky; Tawna Wright, Calhoun, Kentucky; and Brad Howard, Bowling Green, Kentucky.

2. Thomas H. Brouster, Sr., St. Louis, Missouri, acting individually, and in concert with a control group, to retain voting shares of Reliance Bancshares, Inc., Des Peres, Missouri, and thereby indirectly acquire Reliance Bank, St. Louis, Missouri. The control group consists of Mr. Brouster, the members of the Brouster Investment Group approved on February 19, 2013 to gain control of Reliance Bancshares, Inc., and the following new members of the Brouster Investment Group: Richard R. and Nancy J. Arnoldy, JTWROS St. Louis, Missouri; Kenneth M. Bartz, St. Louis, Missouri; Lawrence Callahan and IRA FBO Lawrence Callahan Pershing LLC as Custodian Roth Account, both of Olivette, Missouri; Timothy J. Danis, Vero Beach, Florida; Thomas P. Danis, St. Louis, Missouri; Nancy P. Demko Living Trust dtd 1-13-84, Nancy P. Demko, Trustee, Chesterfield, Missouri; Jacqueline A. Demko Revocable Trust and Jacqueline A. Demko Roth IRA, both of Chesterfield, Missouri; Joseph D. Demko Living Trust UAD 7/15/2003, Joseph D. Demko, Trustee, Glendale, Missouri; McRee Lesche Engler Fund (J. Curtis Engler), St. Louis, Missouri; David N. Flowers, Greenville, Illinois; Duane Flowers, Trustee of the Linda Flowers Trust, Greenville, Illinois; John Curtis Flowers Trust dtd 2-17-1998, John Curtis Trustee, Greenville, Illinois; J. Rush James III u/a dtd 1-30-1997, James R. James III Trustee, St. Louis, Missouri ; PTC Custodian Prototype SEP IRA FBO John C. Kirkham, and John C. Kirkham and Marylyn J. Kirkham as Joint Tenants, both of Chesterfield, Missouri; Linda W. Lynch Revocable Trust Dated 1/27/94, Linda W. Lynch Trustee, St. Louis, Missouri; Thomas J. Lynch Revocable Trust dtd 1-27-94, Thomas J. Lynch Trustee, St. Louis, Missouri; David Meiners, St. Louis, Missouri; Elizabeth H. O'Keefe, Trustee of the Elizabeth H. O'Keefe Living Trust dated 9/18/03, Olivette, Missouri; Henry G. Ollinger Lifetime Trust dtd 9/15/82 and Marcia A. Ollinger Lifetime Trust dtd 9/15/82 as joint tenants, and Marcia A. Ollinger Lifetime Trust dtd 9/15/82, all of St. Louis, Missouri; Thomas Geo Pappas, St. Louis, Missouri; DLP2005 Trust, David L. Payne, Trustee, St. Louis, Missouri; Michael O. Schmelzle Trustee of the Michael O. Schmelzle Revocable Trust u/a dtd November 9, 2007, Shrewsbury, Missouri; Craig A. Schriewer, St. Louis, Missouri; M. Todd Smith and Barbara L. Smith, joint tenants, St. Peters, Missouri; Andrew P. Thome, Chesterfield, Missouri; Howard Weiser and Maureen Weiser, JTWROS, Town & Country, Missouri; and AD Welsh, Trustee of the AD Welsh Revocable Living Trust dtd 9/18/2000, Ft. Myers, Florida.

Board of Governors of the Federal Reserve System, April 22, 2013.
Margaret McCloskey Shanks,
Deputy Secretary of the Board.

[FR Doc. 2013-09830 Filed 4-25-13; 8:45 am]

BILLING CODE 6210-01-P